DEPARTMENT OF LABOR

Employment and Training Administration

Workforce Innovation and Opportunity Act (WIOA) 2014; Lower Living Standard Income Level (LLSIL)

AGENCY: Employment and Training Administration (ETA), Labor.

ACTION: Notice.

SUMMARY: Title I of WIOA (Pub. L.113-128) requires the U.S. Secretary of Labor (Secretary) to update and publish the LLSIL tables annually, for uses described in the law (including determining eligibility for youth). WIOA defines the term “low income individual” as one who qualifies under various criteria, including an individual in a family with total family income for a six-month period that does not exceed the higher level of the poverty line or 70 percent of the LLSIL. This issuance provides the Secretary's annual LLSIL for 2016 and references the current 2016 Health and Human Services “Poverty Guidelines.”

DATES: This notice is effective March 25, 2016.

FOR FURTHER INFORMATION OR QUESTIONS ON LLSIL: Please contact Samuel Wright, Department of Labor, Employment and Training Administration, 200 Constitution Avenue NW., Room C-4526, Washington, DC 20210; Telephone: 202-693-2870; Fax: 202-693-3015 (these are not toll-free numbers); Email address: wright.samuel.e@dol.gov. Individuals with hearing or speech impairments may access the telephone number above via Text Telephone (TTY/TDD) by calling the toll-free Federal Information Relay Service at 1-877-889-5627 (TTY/TDD).

For Further Information Or Questions On Federal Youth Employment Programs: Please contact Jennifer Kemp, Department of Labor, Employment and Training Administration, 200 Constitution Avenue NW., Room N-4464, Washington, DC 20210; Telephone: 202-693-3377; Fax: 202-693-3113 (these are not toll-free numbers); Email: kemp.jennifer.n@dol.gov. Individuals with hearing or speech impairments may access the telephone number above via TTY by calling the toll-free Federal Information Relay Service at 1-877-889-5627 (TTY/TDD).

SUPPLEMENTARY INFORMATION: The purpose of WIOA is to provide workforce investment activities through statewide and local workforce investment systems that increase the employment, retention, and earnings of participants. WIOA programs are intended to increase the occupational skill attainment by participants and the quality of the workforce, thereby reducing welfare dependency and enhancing the productivity and competitiveness of the Nation.

LLSIL is used for several purposes under the WIOA. Specifically, WIOA SEC.3(36) (A)(B)defines the term “low income individual” for eligibility purposes, and SEC.127(b)(2)(c), SEC.132(b)(1)(B)(IV),(V)(bb) define the terms “disadvantaged youth” and “disadvantaged adult” in terms of the poverty line or LLSIL for State formula allotments. The governor and state/local workforce development boards (WDs) use the LLSIL for determining eligibility for youth and adults for certain services. ETA encourages governors and State/local boards to consult the WIOA regulations and the preamble to the WIOA Final Rule for more specific guidance in applying LLSIL to program requirements. The U.S. Department of Health and Human Services (HHS) published the most current poverty-level guidelines in the Federal Register on January 25, 2016 (Volume 81, Number 15), pp. 4036-4037. The HHS 2016 Poverty guidelines may also be found on the Internet at https://aspe.hhs.gov/poverty-guidelines. ETA plans to have the 2016 LLSIL available on its Web site at http://www.doleta.gov/llsil.

WIOA Section 3(36)(B) defines LLSIL as “that income level (adjusted for regional, metropolitan, urban and rural differences and family size) determined annually by the Secretary [of Labor] based on the most recent lower living family budget issued by the Secretary.” The most recent lower living family budget was issued by the Secretary in fall 1981. The four-person urban family budget estimates, previously published by the U.S. Bureau of Labor Statistics (BLS), provided the basis for the Secretary to determine the LLSIL. BLS terminated the four-person family budget series in 1982, after publication of the fall 1981 estimates. Currently, BLS provides data to ETA, which ETA then uses to develop the LLSIL tables, as provided in the Appendices to this Federal Register notice.

ETA published the 2015 updates to the LLSIL in the Federal Register of March 27, 2015, at Vol. 80, No.59 pp. 16450-16456. Last year, ETA also published a correction to three Regions in the Federal Register of July 16, 2015 at Vol. 80, No. 136 pp. 42123-42124. These notices again update the LLSIL to reflect cost of living increases for 2015, by calculating the percentage change in the most recent 2014 Consumer Price Index for All Urban Consumers (CPI-U) for an area to the 2015 CPI-U, and then applying this calculation to each of the March 27, 2015 LLSIL figures. This year, a Region and several metro areas had a negative CPI-U due mostly to the decline in gas prices.

The updated figures for a four-person family are listed in Appendix A, Table 1, by region for both metropolitan and non-metropolitan areas. Numbers in all of the Appendix tables are rounded up to the nearest dollar. Since program eligibility for low-income individuals, “disadvantaged adults” and “disadvantaged youth” may be determined by family income at 70 percent of the LLSIL, pursuant to WIOA Section 3 (36)(A)(ii) and Section 3(36)(B), respectively, those figures are listed as well.

I. Jurisdictions

Jurisdictions included in the various regions, based generally on the Census Regions of the U.S. Department of Commerce, are as follows:

A. Northeast

Connecticut, Maine, Massachusetts, New Hampshire, New Jersey, New York, Pennsylvania, Rhode Island,Vermont, Virgin Islands

B. Midwest

Illinois, Indiana, Iowa, Kansas, Michigan, Minnesota, Missouri, Nebraska, North Dakota, Ohio, South Dakota, Wisconsin,

C. South

Alabama, American Samoa, Arkansas, Delaware, District of Columbia, Florida, Georgia, Northern Marianas, Oklahoma, Palau, Puerto Rico, South Carolina, Kentucky, Louisiana, Marshall Islands, Maryland, Micronesia, Mississippi, North Carolina, Tennessee, Texas, Virginia, West Virginia

D. West

Arizona, California, Colorado, Idaho, Montana, Nevada, New Mexico, Oregon, Utah, Washington, Wyoming

Additionally, separate figures have been provided for Alaska, Hawaii, and Guam as indicated in Appendix B, Table 2.

For Alaska, Hawaii, and Guam, the year 2016 figures were updated from the 2015 “State Index” based on the ratio of the urban change in the state (using Anchorage for Alaska and Honolulu for Hawaii and Guam) compared to the West regional metropolitan change, and then applying that index to the West regional metropolitan change.

Data on 23 selected Metropolitan Statistical Areas (MSAs) are also available. These are based on annual and semiannual CPI-U changes for a 12-month period ending in December 2015. The updated LLSIL figures for these MSAs and 70 percent of LLSIL are reported in Appendix C, Table 3.

Appendix D, Table 4 lists each of the various figures at 70 percent of the updated 2015 LLSIL for family sizes of one to six persons. Because Tables 1-3 only list the LLSIL for a family of four, Table 4 can be used to separately determine the LLSIL for families of between one and six persons. For families larger than six persons, an amount equal to the difference between the six-person and the five-person family income levels should be added to the six-person family income level for each additional person in the family. Where the poverty level for a particular family size is greater than the corresponding 70 percent of the LLSIL figure, the figure is shaded. A modified Microsoft Excel version of Appendix D, Table 4, with the area names, will be available on the ETA LLSIL Web site at http://www.doleta.gov/llsil. Appendix E, Table 5, indicates 100 percent of LLSIL for family sizes of one to six, and is used to determine self-sufficiency as noted at Section 3 (36)(a)(ii) and Section 3 (36)(B),(C)(ii) in WIOA.

II. Use of These Data

Governors should designate the appropriate LLSILs for use within the State from Appendices A, B, and C, containing Tables 1 through 3. Appendices D and E, which contain Tables 4 and 5, which adjust a family of four figure for larger and smaller families, may be used with any LLSIL designated area. The governor's designation may be provided by disseminating information on MSAs and metropolitan and non-metropolitan areas within the state or it may involve further calculations. For example, the State of New Jersey may have four or more LLSIL figures for Northeast metropolitan, Northeast non-metropolitan, portions of the state in the New York City MSA, and those in the Philadelphia MSA. If a workforce investment area includes areas that would be covered by more than one LLSIL figure, the governor may determine which is to be used.

A state's policies and measures for the workforce investment system shall be accepted by the Secretary to the extent that they are consistent with WIOA and WIOA regulations.

III. Disclaimer on Statistical Uses

It should be noted that publication of these figures is only for the purpose of meeting the requirements specified by WIOA as defined in the law and regulations. BLS has not revised the lower living family budget since 1981, and has no plans to do so. The four-person urban family budget estimates series has been terminated. The CPI-U adjustments used to update LLSIL for this publication are not precisely comparable, most notably because certain tax items were included in the 1981 LLSIL, but are not in the CPI-U. Thus, these figures should not be used for any statistical purposes, and are valid only for those purposes under WIOA as defined in the law and regulations.

Appendix A

Table 1—Lower Living Standard Income Level (for a Family of Four Persons) by Region ¹
Region ² | 2015 adjusted LLSIL | 70 percent LLSIL
Northeast: |  |
Metro | $ 42,164 | $ 29,514
Non-Metro ³ | 41,826 | 29,279
Midwest: |  |
Metro | 36,977 | 25,884
Non-Metro | 35,740 | 25,018
South: |  |
* Metro | 35,803 | 25,062
Non-Metro | 35,568 | 24,898
* West: |  |
Metro | 41,048 | 28,734
Non-Metro ⁴ | 40,580 | 28,406
* The South Metro Region and the West Metro and Non-Metro Regions 2015 LLSIL were adjusted.
¹ For ease of use, these figures are rounded to the next highest dollar.
² Metropolitan area measures were calculated from the weighted average CPI-U's for city size classes A and B/C. Non-metropolitan area measures were calculated from the CPI-U's for city size class D.
³ Non-metropolitan area percent changes for the Northeast region are no longer available. The Non-metropolitan percent change was calculated using the U.S. average CPI-U for city size class D.
⁴ Non-metropolitan area percent changes for the West region are based on unpublished BLS data.

Appendix B

Table 2—Lower Living Standard Income Level (for a Family of Four Persons), for Alaska, Hawaii and Guam ¹
Region ¹ | 2015 adjusted LLSIL | 70 percent LLSIL
Alaska:
Metro ² | $ 47,899 | $ 33,529
Non-Metro ³ | 52,482 | 36,737
Hawaii, Guam:
Metro | 52,587 | 36,811
Non-Metro ³ | 56,028 | 39,220
¹ For ease of use, these figures are rounded to the next highest dollar.
² The CPI-U change was negative.
³ Non-Metropolitan percent changes for Alaska, Hawaii and Guam were calculated from the CPI-U's for all urban consumers for city size class D in the Western Region. Generally the non-metro areas LLSIL is lower than the LLSIL in metro areas. This year the non-metro area LLSIL incomes were larger because the change in CPI-U was smaller in the metro areas compared to the change in CPI-U in the non-metro areas of Alaska, Hawaii and Guam.

Appendix C

Table 3—Lower Living Standard Income Level (for a Family of Four Persons), for 23 Selected MSAs ¹
Metropolitan statistical areas (MSAs) ¹ | 2016 adjusted LLSIL | 70 percent LLSIL
Anchorage, AK ² | $49,096 | $34,367
Atlanta, GA ² | 34,370 | 24,059
Boston—Brockton—Nashua, MA/NH/ME/CT | 45,346 | 31,742
Chicago—Gary—Kenosha, IL/IN/WI | 38,019 | 26,613
Cincinnati—Hamilton, OH/KY/IN | 36,435 | 25,505
Cleveland—Akron, OH | 37,800 | 26,460
Dallas—Ft. Worth, TX | 34,141 | 23,899
Denver—Boulder—Greeley, CO | 38,913 | 27,239
Detroit—Ann Arbor—Flint, MI ² | 35,202 | 24,641
Honolulu, HI | 53,532 | 37,473
Houston—Galveston—Brazoria, TX | 34,842 | 24,389
Kansas City, MO/KS | 35,159 | 24,612
Los Angeles—Riverside—Orange County, CA ² | 42,146 | 29,502
Milwaukee—Racine, WI | 36,705 | 25,694
Minneapolis—St. Paul, MN/WI | 36,942 | 25,859
New York—Northern NJ—Long Island, NY/NJ/CT/PA ² | 45,008 | 31,506
Philadelphia—Wilmington—Atlantic City, PA/NJ/DE/MD | 40,855 | 28,599
Pittsburgh, PA | 44,940 | 31,458
St. Louis, MO/IL | 34,557 | 24,190
San Diego, CA | 46,922 | 32,846
San Francisco—Oakland—San Jose, CA | 45,389 | 31,772
Seattle—Tacoma—Bremerton, WA | 45,018 | 31,512
Washington—Baltimore, DC/MD/VA/WV ² | 45,551 | 31,885
¹ For ease of use, these figures are rounded to the next highest dollar.
² The CPI-U change was negative.
² Baltimore and Washington are calculated as a single metropolitan statistical area.

Appendix D

Table 4: 70 Percent of Updated 2015 Lower Living Standard Income Level (LLSIL), by Family Size

To use the 70 percent LLSIL value, where it is stipulated for the WIOA programs, begin by locating the region or metropolitan area where the program applicant resides. These are listed in Tables 1, 2 and 3. After locating the appropriate region or metropolitan statistical area, find the 70 percent LLSIL amount for that location. The 70 percent LLSIL figures are listed in the last column to the right on each of the three tables. These figures apply to a family of four. Larger and smaller family eligibility is based on a percentage of the family of four. To determine eligibility for other size families consult Table 4 and the instructions below.

To use Table 4, locate the 70 percent LLSIL value that applies to the individual's region or metropolitan area from Tables 1, 2 or 3. Find the same number in the “family of four” column of Table 4. Move left or right across that row to the size that corresponds to the individual's family unit. That figure is the maximum household income the individual is permitted in order to qualify as economically disadvantaged under the WIOA.

Where the HHS poverty level for a particular family size is greater than the corresponding LLSIL figure, the LLSIL figure appears in a shaded block. Individuals from these size families may consult the 2016 HHS poverty guidelines found on the Health and Human Services Web site at https://aspe.hhs.gov/poverty-guidelines to find the higher eligibility standard. Individuals from Alaska and Hawaii should consult the HHS guidelines for the generally higher poverty levels that apply in their States.

Appendix E

Table 5: Updated 2015 LLSIL (100 Percent), by Family Size

To use the LLSIL to determine the minimum level for establishing self-sufficiency criteria at the State or local level, begin by locating the metropolitan area or region from Table 1, 2 or 3. Then locate the appropriate region or metropolitan statistical area and then find the 2015 adjusted LLSIL amount for that location. These figures apply to a family of four. Locate the corresponding number in the family of four in the column below. Move left or right across that row to the size that corresponds to the individual's family unit. That figure is the minimum figure that States must set for determining whether employment leads to self-sufficiency under WIOA programs.

Family of one | Family of two | Family of three | Family of four | Family of five | Family of six
12,298 | 20,153 | 27,662 | 34,141 | 40,296 | 47,121
12,375 | 20,281 | 27,850 | 34,370 | 40,561 | 47,433
12,450 | 20,397 | 27,997 | 34,557 | 40,783 | 47,691
12,554 | 20,566 | 28,227 | 34,842 | 41,119 | 48,087
12,657 | 20,748 | 28,488 | 35,159 | 41,493 | 48,527
12,677 | 20,770 | 28,518 | 35,202 | 41,540 | 48,577
12,815 | 20,993 | 28,813 | 35,568 | 41,974 | 49,087
12,879 | 21,087 | 28,953 | 35,740 | 42,186 | 49,333
12,895 | 21,129 | 29,000 | 35,803 | 42,256 | 49,421
13,120 | 21,505 | 29,522 | 36,435 | 43,000 | 50,285
13,214 | 21,659 | 29,735 | 36,705 | 43,318 | 50,658
13,304 | 21,801 | 29,931 | 36,942 | 43,600 | 50,989
13,313 | 21,823 | 29,953 | 36,977 | 43,634 | 51,039
13,611 | 22,312 | 30,622 | 37,800 | 44,611 | 52,166
13,687 | 22,440 | 30,794 | 38,019 | 44,869 | 52,476
14,015 | 22,966 | 31,528 | 38,913 | 45,920 | 53,705
14,611 | 23,946 | 32,877 | 40,580 | 47,894 | 56,013
14,716 | 24,111 | 33,098 | 40,855 | 48,219 | 56,385
14,778 | 24,219 | 33,252 | 41,048 | 48,438 | 56,654
15,061 | 24,687 | 33,890 | 41,826 | 49,364 | 57,720
15,174 | 24,866 | 34,140 | 42,146 | 49,734 | 58,170
15,185 | 24,886 | 34,156 | 42,164 | 49,762 | 58,190
16,187 | 26,525 | 36,410 | 44,940 | 53,039 | 62,025
16,206 | 26,561 | 36,458 | 45,008 | 53,110 | 62,122
16,217 | 26,563 | 36,470 | 45,018 | 53,127 | 62,128
16,328 | 26,758 | 36,741 | 45,346 | 53,516 | 62,580
16,349 | 26,789 | 36,767 | 45,389 | 53,564 | 62,646
16,405 | 26,885 | 36,902 | 45,551 | 53,760 | 62,872
16,901 | 27,686 | 38,013 | 46,922 | 55,374 | 64,762
17,252 | 28,263 | 38,805 | 47,899 | 56,526 | 66,111
17,683 | 28,977 | 39,773 | 49,096 | 57,944 | 67,755
18,902 | 30,965 | 42,515 | 52,482 | 61,932 | 72,425
18,942 | 31,030 | 42,604 | 52,587 | 62,058 | 72,580
19,279 | 31,586 | 43,361 | 53,532 | 63,171 | 73,885
20,177 | 33,065 | 45,387 | 56,028 | 66,117 | 77,322

Portia Wu,
Assistant Secretary for Employment and Training Administration.

[FR Doc. 2016-06764 Filed 3-24-16; 8:45 am]

BILLING CODE 4510-FT-P